DEPARTMENT OF COMMERCE

National Oceanic and Atmospheric Administration

[RTID 0648-XD259]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of the following: Mackerel Cobia Committee, Habitat Protection and Ecosystem-Based Management (Habitat) Committee, Southeast Data, Assessment and Review (SEDAR) Committee, and the Snapper Grouper Committee. The meeting week will also include a formal public comment session and a meeting of the Full Council.

DATES: The Council meeting will be held from 8:30 a.m. on Monday, September 11, 2023, until 12 p.m. on Friday, September 15, 2023.

ADDRESSES: Meeting address: The meeting will be held at the Town and Country Inn, 2008 Savannah Highway, Charleston, SC 29407; phone: (843) 571-1000. The meeting will also be available via webinar. See SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including agendas, overviews, and briefing book materials will be posted on the Council's website at: http://safmc.net/safmc-meetings/council-meetings/. Webinar registration links for the meeting will also be available from the Council's website.

Public comment: Public comment on agenda items may be submitted through the Council's online comment form available from the Council's website at: http://safmc.net/safmc-meetings/council-meetings/. Written comments will be accepted from August 25, 2023, until September 15, 2023. These comments are accessible to the public, part of the Administrative Record of the meeting, and immediately available for Council consideration. A formal public comment session will also be held during the Council meeting.

The items of discussion in the individual meeting agendas are as follows:

Council Session I, Monday, September 11, 2023, 8:30 a.m. Until 5 p.m.

The Council will receive reports from state agencies, Council liaisons, NOAA Office of Law Enforcement, and the U.S. Coast Guard. The Council will review public hearing comments on the Joint Commercial Electronic Logbook Amendment and consider approving the amendment for Secretarial review. The Council will receive updates on East Coast Climate Change Scenario Planning, the Council's Allocation Review Process, the Southeast Reef Fish Monitoring Survey (SERFS), and the Southeast Area Monitoring and Assessment Program (SEAMAP). The Council will receive information on a Marine Recreational Information Program pilot study on the recreational Fishing Effort Survey design. The Council will also discuss the National Marine Fisheries Service (NMFS) Draft Procedural Directive providing guidance on Council authority for stocks that may extend across the geographic areas of more than one Council.

Mackerel Cobia Committee, Tuesday, September 12, 2023, 8:30 a.m. Until 10 a.m.

The Committee will review options for Amendment 13 to the Coastal Migratory Pelagics Fishery Management Plan addressing catch level adjustments for Spanish mackerel. The Committee will also receive an update on plans for conducting port meetings for the mackerel fishery.

Habitat Committee, Tuesday, September 12, 2023, 10 a.m. Until 3 p.m.

The Committee will receive a report from the May 2023 meeting of the Habitat Advisory Panel addressing plans for the 5-year Essential Fish Habitat Review and revisions to Council's policies addressing Beach Renourishment and Offshore Wind Energy Development, receive comments from the Scientific and Statistical Committee (SSC) on a coral distribution model, and review and consider approval of the Council's Habitat Blueprint. The Committee will also review topics to be addressed at the next meeting of the Habitat Advisory Panel.

SEDAR Committee, Tuesday, September 12, 2023, 3 p.m. Until 5 p.m. (Partially Closed Session)

The Committee will receive a report from the April 2023 meeting of the SEDAR Steering Committee, an update on SEDAR projects, and approve the Statements of Work for 2026 Assessments. The Committee will then meet in Closed Session to address appointments of SSC members to SEDAR Panels.

Snapper Grouper Committee, Wednesday, September 13, 2023, 8:30 a.m. Until 3:45 p.m., and Thursday, September 14, 2023, 8:30 a.m. Until 12 p.m.

The Committee will review the following amendments that are under development to the Snapper Grouper Fishery Management Plan: Amendment 48 addressing wreckfish management; Amendment 44 addressing yellowtail snapper management; and Amendment 46 addressing recreational permits for the snapper grouper fishery, including recommendations from the Recreational Permitting and Reporting Technical Advisory Panel for Amendment 46. The Committee will review public scoping comments received on Amendment 55 addressing management measures for scamp and yellowmouth grouper, consider SSC recommendations, and discuss rebuilding timelines, ecosystem component designation, and application of the Allocations Decision Tool as it pertains to Amendment 55. The Committee will also discuss potential actions to include in Amendment 56 addressing Black Sea Bass management after receiving recommendations from the SSC on requested projections and catch levels, and a report from the On-Demand Gear Workshop. The Committee will receive updates from the System Management Plan (SMP) Workgroup and Best Fishing Practices Outreach, and review topics for the next meeting of the Snapper Grouper Advisory Panel.

Formal Public Comment, Wednesday, June 13, 2023, 4 p.m..—Public comment will be accepted from individuals attending the meeting in person and via webinar on all items on the Council meeting agenda. The Council Chair will determine the amount of time provided to each commenter based on the number of individuals wishing to comment.

Council Session II, Thursday, September 14, 2023, 1:30 p.m. Until 5 p.m. and Friday, September 15, 2023, 8:30 a.m. Until 12 p.m.

The Council will present awards, receive a litigation brief if needed, and receive a staff report. The Council will review topics for upcoming meetings of the Dolphin Wahoo and Outreach and Education Advisory Panels; receive a report from NOAA Fisheries Southeast Regional Office, including a briefing on ongoing system issues at the NMFS' Southeast Permits Office and updates on Biological Opinions for Dolphin, Wahoo, and Shrimp; and a report from the Southeast Fisheries Science Center. The Council will receive Committee reports, review its workplan, review upcoming meetings, and take action as necessary. The Council will discuss any other business as needed.

Documents regarding these issues are available from the Council office (see ADDRESSES).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: August 18, 2023.
Rey Israel Marquez,
Acting Deputy Director, Office of Sustainable Fisheries, National Marine Fisheries Service.

[FR Doc. 2023-18158 Filed 8-22-23; 8:45 am]

BILLING CODE 3510-22-P